DEPARTMENT OF TRANSPORTATION

Federal Aviation Administration

14 CFR Part 39

[Docket No. 2000-CE-34-AD]

RIN 2120-AA64

Airworthiness Directives; SOCATA—Groupe AEROSPATIALE Models MS 880B, MS 885, MS 892A-150, MS 892E-150, MS 893A, MS 893E, MS 894A, MS 894E, Rallye 100S, Rallye 150T, Rallye 150ST, Rallye 235C, and Rallye 235E Airplanes

AGENCY: Federal Aviation Administration, DOT.

ACTION: Notice of proposed rulemaking (NPRM).

SUMMARY: This document proposes to adopt a new airworthiness directive (AD) that would apply to all SOCATA—Groupe AEROSPATIALE (Socata) Models MS 880B, MS 885, MS 892A-150, MS 892E-150, MS 893A, MS 893E, MS 894A, MS 894E, Rallye 100S, Rallye 150T, Rallye 150ST, Rallye 235C, and Rallye 235E airplanes. The proposed AD would require you to repetitively inspect, and, if necessary, replace elevator clevis and rudder governor control clevis that are too thin. The proposed AD is the result of mandatory continuing airworthiness information (MCAI) issued by the airworthiness authority for France. The actions specified in the proposed AD are intended to correct rudder and elevator control clevis that are too thin because of abnormal wear, with consequent failure of the rudder and elevator clevis. Such failure could lead to loss of directional or pitch control.

DATES: The Federal Aviation Administration (FAA) must receive any comments on this proposed rule on or before October 11, 2000.

ADDRESSES: Send comments in triplicate to the Federal Aviation Administration (FAA), Central Region, Office of the Regional Counsel, Attention: Rules Docket No. 2000-CE-34-AD, 901 Locust, Room 506, Kansas City, Missouri 64106. You may read comments at this location between 8 a.m. and 4 p.m., Monday through Friday, except holidays.

You may get service information that applies to the proposed AD from SOCATA Groupe AEROSPATIALE, Customer Support, Aerodrome Tarbes-Ossun-Lourdes, BP 930—F65009 Tarbes Cedex, France; telephone: (33) (0)5.62.41.73.00; facsimile: (33) (0)5.62.41.76.54; or the Product Support Manager, SOCATA—Groupe AEROSPATIALE, North Perry Airport, 7501 Pembroke Road, Pembroke Pines, Florida 33023; telephone: (954) 894-1160; facsimile: (954) 964-4191. You may read this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How do I comment on this proposed AD? We invite your comments on the proposed rule. You may send whatever written data, views, or arguments you choose. You need to include the rule's docket number and send your comments in triplicate to the address specified under the caption ADDRESSES. We will consider all comments received on or before the closing date specified above, before acting on the proposed rule. We may change the proposals contained in this notice in light of the comments received.

Are there any specific portions of the proposed AD I should pay attention to? The FAA specifically invites comments on the overall regulatory, economic, environmental, and energy aspects of the proposed rule that might require a change to the proposed rule. You may examine all comments we receive. We will file a report in the Rules Docket that summarizes each FAA contact with the public that concerns the substantive parts of this proposal.

The FAA is reviewing the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 2000-CE-34-AD.” We will date stamp and mail the postcard back to you.

Discussion

What events have caused this proposed AD? The Direction Générale de l'Aviation Civile (DGAC), which is the airworthiness authority for France, recently notified the FAA that an unsafe condition may exist on all Socata Models MS 880B, MS 885, MS 892A-150, MS 892E-150, MS 893A, MS 893E, MS 894A, MS 894E, Rallye 100S, Rallye 150T, Rallye 150ST, Rallye 235C, and Rallye 235E airplanes. The DGAC reports one failure of the rudder clevis in a Rallye airplane in flight. Abnormal wear of the part resulted in the failure.

What happens if you do not correct the condition? This condition, if not corrected, could result in failure of the rudder and elevator clevis and consequent loss of directional or pitch control.

Relevant Service Information

Is there service information that applies to this subject? Socata has issued Mandatory Service Bulletin SB 155-27, dated April, 2000.

What are the provisions of this service bulletin? The service bulletin describes procedures for:

—repetitively inspecting the elevator and rudder governor control clevis; and

—if necessary, replacing any clevis that is too thin.

What actions did the DGAC take? The DGAC issued French AD number 2000-174(A), dated May 3, 2000, in order to assure the continued airworthiness of these airplanes in France.

Was this in accordance with the bilateral airworthiness agreement? Socata manufactured these airplane models in France. The FAA type certificated these airplane models for operation in the United States under the provisions of section 21.29 of the Federal Aviation Regulations (14 CFR 21.29) and the applicable bilateral airworthiness agreement. Complying with this bilateral airworthiness agreement, the DGAC informed FAA of the situation described above.

The FAA's Determination and an Explanation of the Provisions of the Proposed AD

What has FAA decided? The FAA has examined the findings of the DGAC; reviewed all available information, including the service information referenced above; and determined that:

—the unsafe condition referenced in this document exists or could develop on other Socata Models MS 880B, MS 885, MS 892A-150, MS 892E-150, MS 893A, MS 893E, MS 894A, MS 894E, Rallye 100S, Rallye 150T, Rallye 150ST, Rallye 235C, and Rallye 235E airplanes of the same type design;

—these airplanes should have the actions specified in the above service bulletin incorporated; and

—the FAA should take AD action to correct this unsafe condition.

What does this proposed AD require? This proposed AD requires you to repetitively inspect the elevator and rudder governor control clevis, and, if necessary, replace any clevis that is too thin.

What are the differences between the French AD and the proposed AD? The French AD requires inspection, and, if necessary, replacement of the elevator and rudder governor control clevis as soon as possible and, at the latest, during the next scheduled inspection after the effective date of the AD. We propose a requirement that you inspect, and, if necessary, replace the clevis within the next 100 hours time-in-service (TIS).

We do not have justification to require this action as soon as possible. We use compliance times such as this when we have identified an urgent safety of flight situation. We believe that 100 hours TIS will give the owners or operators of the affected airplanes enough time to have the proposed actions accomplished without compromising the safety of the airplanes.

Cost Impact

How many airplanes does this proposed AD impact? We estimate that the proposed AD would affect 81 airplanes in the U.S. registry.

What is the cost impact of the proposed action for the affected airplanes on the U.S. Register? We estimate that it would take approximately 4 workhours per airplane to accomplish the proposed inspection, at an average labor rate of $60 an hour. Based on the cost factors presented above, we estimate the total cost impact of the proposed inspection on U.S. operators to be $19,440, or $240 per airplane.

If required, the total cost of parts per airplane is approximately $24 per airplane every time you replace both clevises.

Regulatory Impact

Does this proposed AD impact relations between Federal and State governments? The proposed regulations would not have substantial direct effects on the States, on the relationship between the national government and the States, or on the distribution of power and responsibilities among the various levels of government. We have determined that this proposed rule would not have federalism implications under Executive Order 13132.

Does this proposed AD involve a significant rule or regulatory action? For the reasons discussed above, I certify that this action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may obtain a copy of it by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Socata—Groupe Aerospatiale: Docket No. 2000-CE-34-AD.

(a) What airplanes are affected by this AD? The following model airplanes, all serial numbers, certificated in any category:

• MS 880B

• MS 892E-150

• MS 894A

• Rallye 150T

• Rallye 235E

• MS 885

• MS 893A

• MS 894E

• Rallye 150ST

• MS 892A-150

• MS 893E

• Rallye 100S

• Rallye 235C

(b) Who must comply with this AD? Anyone who wishes to operate any of the above airplanes on the U.S. Register must comply with this AD.

(c) What problem does this AD address? Our intent is that the actions specified in this AD correct rudder clevis and elevator control clevis that are too thin because of abnormal wear and the consequent failure of the rudder and elevator clevis. Such failure could lead to loss of directional or pitch control.

(d) What must I do to address this problem? To address this problem, you must accomplish the following actions:

Actions | Compliance times | Procedures
(1) Inspect the elevator and rudder control clevis abnormal wear. Measure clevis thickness. The thickness at the bent section should be at least 0.043 inch (in)/1.1 millimeter (mm) | (i) Within the next 100 hours time-in-service (TIS) after the effective date of this AD (ii) After the initial inspection, inspect at intervals not to exceed every 600 hours TIS | Do this inspection in accordance with the ACCOMPLISHMENT INSTRUCTIONS of Socata Mandatory Service Bulletin SB 155-27, dated April 2000.
(2) If during inspection the elevator or rudder control clevis measures a thickness less than 0.043 in/1.1 mm, replace the clevis | Before further flight after the inspection where abnormal wear was found after the effective date of this AD | Do this action in accordance with the ACCOMPLISHMENT INSTRUCTIONS of Socata Mandatory Service Bulletin SB 155-27, dated April 2000.
(3) Lubricate the clevis | At intervals not to exceed every 100 hours TIS | Do this action in accordance with the ACCOMPLISHMENT INSTRUCTIONS of Socata Mandatory Service Bulletin SB 155-27, dated April 2000.

(e) Can I comply with this AD in any other way? You may use an alternative method of compliance or adjust the compliance time if:

(1) Your alternative method of compliance provides an equivalent level of safety; and

(2) The Manager, Small Airplane Directorate approves your alternative. Send your request through an FAA Principal Maintenance Inspector, who may add comments and then send it to the Manager, Small Airplane Directorate, 901 Locust, Room 301, Kansas City, Missouri 64106.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? You can contact Karl Schletzbaum, Aerospace Engineer, FAA, Small Airplane Directorate, 901 Locust, Room 301, Kansas City, Missouri 64016; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from SOCATA Groupe AEROSPATIALE, Customer Support, Aerodrome Tarbes-Ossun-Lourdes, BP 930—F65009 Tarbes Cedex, France; telephone: (33) (0)5.62.41.73.00; facsimile: (33) (0)5.62.41.76.54; or the Product Support Manager, SOCATA—Groupe AEROSPATIALE, North Perry Airport, 7501 Pembroke Road, Pembroke Pines, Florida 33023; telephone: (954) 894-1160; facsimile: (954) 964-4191. You may read these documents at FAA, Central Region, Office of the Regional Counsel, 901 Locust, Room 506, Kansas City, Missouri 64106.

Note 2: French AD 2000-174(A), dated May 3, 2000, addresses this subject.

Issued in Kansas City, Missouri, on September 1, 2000.
Carolanne L. Cabrini,
Acting Manager, Small Airplane Directorate,, Aircraft Certification Service.

[FR Doc. 00-23209 Filed 9-8-00; 8:45 am]

BILLING CODE 4910-13-P